ENVIRONMENTAL PROTECTION AGENCY

[EPA-HQ-OAR-2007-1121; FRL 8519-7]

Agency Information Collection Activities; Submission to OMB for Review and Approval; Fuel Quality Regulations for Diesel Fuel Sold in 2001 & Later Years; for Tax-Exempt (Dyed) Highway Diesel Fuel; & Nonroad Locomotive & Marine Diesel Fuel (Renewal); EPA ICR No. 1718.08, OMB Control No. 2060-0308

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 25, 2008.

ADDRESSES: Submit your comments, referencing Docket ID No. EPA-HQ-OAR-2007-1121, to (1) EPA online using www.regulations.gov (our preferred method), by email to pastorkovich.anne-marie@epa.gov or by mail to: EPA Docket Center, Environmental Protection Agency, Air and Radiation Docket, 1200 Pennsylvania Ave., NW., Mail Code: 2822T, Washington, DC 20460, and (2) OMB by mail to: Office of Information and Regulatory Affairs, Office of Management and Budget (OMB), Attention: Desk Officer for EPA, 725 17th Street, NW., Washington, DC 20503.

FOR FURTHER INFORMATION CONTACT: Anne-Marie C. Pastorkovich, Attorney/Advisor, Environmental Protection Agency, 1200 Pennsylvania Ave., NW., Mail Code: 6406J, Washington, DC 20460; telephone number: 202-343-9623; fax number: 202-343-2801; e-mail address: pastorkovich.anne-marie@epa.gov.

SUPPLEMENTARY INFORMATION: EPA has submitted the following ICR to OMB for review and approval according to the procedures prescribed in 5 CFR 1320.12. On November 20, 2007 (72 FR 65327), EPA sought comments on this ICR pursuant to 5 CFR 1320.8(d). EPA received no comments. Any additional comments on this ICR should be submitted to EPA and OMB within 30 days of this notice.

EPA has established a public docket for this ICR under Docket ID No. EPA-HQ-OAR-2007-1121, which is available for online viewing at www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Fuel Quality Regulations for Diesel Fuel Sold in 2001 & Later Years; for Tax-Exempt (Dyed) Highway Diesel Fuel; & Nonroad Locomotive & Marine Diesel Fuel (Renewal).

ICR numbers: EPA ICR No. 1718.08, OMB Control No. 2060-0308.

ICR Status: This ICR is scheduled to expire on January 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR covers recordkeeping and reporting requirements for motor vehicle diesel fuel and non-road, locomotive, and marine diesel fuel. It also includes recordkeeping and reporting associated with the placement of codes on dyed diesel fuel (the dye is required under IRS regulations). The main purpose for recordkeeping and reporting is to ensure compliance with the regulations at 40 CFR Part 80, Subpart I—Motor Vehicle, Non-Road, Locomotive and Marine Diesel Fuel. Because the diesel fuel regulations are written to permit several types of flexibility, periodic reporting (annual and quarterly) is necessary in order for EPA to monitor compliance. Most reporting is mandatory. Parties may assert a claim of business confidentiality and submissions covered by such a claim will be treated in accordance with procedures at 40 CFR Part 2 and established Agency procedures.

With this ICR the Office of Air and Radiation (OAR) is also seeking permission to collect applications from refiners, importers, and independent laboratories in order to permit them to use performance-based test methods for measuring sulfur in diesel fuel and detecting the presence of a marker in diesel sold as heating oil. This was previously covered by EPA ICR Number 2180.02 (2060-0566), but since the entire burden in that ICR is related to motor vehicle and non-road diesel fuel, we are including it in this ICR and will terminate 2180.02 upon approval.

Burden Statement: The annual public reporting and recordkeeping burden for this collection of information is estimated to average 0.62 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Businesses and other for-profits in the private sector.

Estimated Number of Respondents: 4,875.

Frequency of Response: Annual, quarterly, and/or on occasion.

Estimated Total Annual Hour Burden: 264,150.

Estimated Total Annual Cost: $2,626,000 (all purchased services).

Changes in the Estimates: There is a net decrease of 48,083 hours and $5,874,000 in the total estimated burden currently identified in the OMB Inventory of Approved ICR Burdens. The change in burden hours reflects a decrease of 51,683 hours due to agency adjustment and an increase of 3,600 hours due to agency discretion. The additional 3,600 hours cover performance-based test methods previously counted under ICR 2180.02. The reduction in hours is due mostly to reporting requirements that applied at the start of the program that are no longer applicable to most parties (e.g., initial registration, application for flexibilities like small refiner status).

Dated: January 17, 2008.
Sara Hisel-McCoy,
Director, Collection Strategies Division.

[FR Doc. E8-1185 Filed 1-23-08; 8:45 am]

BILLING CODE 6560-50-P